DEPARTMENT OF ENERGY

Office of Energy Efficiency and Renewable Energy

State Energy Advisory Board (STEAB)

AGENCY: Office of Energy Efficiency and Renewable Energy, Department of Energy.

ACTION: Notice of Open Teleconference.

SUMMARY: This notice announces an open teleconference call of the State Energy Advisory Board (STEAB). The Federal Advisory Committee Act (Pub. L. 92-463; 86 Stat. 770) requires that public notice of these meetings be announced in the Federal Register.

DATES: Thursday, July 21, 2011, 3:30 p.m.-4:30 p.m. EST.

The call in number is 877-445-5075 and the passcode is 2402235515.

FOR FURTHER INFORMATION CONTACT: Gil Sperling, STEAB Designated Federal Officer, U.S. Department of Energy, Office of Energy Efficiency and Renewable Energy, 1000 Independence Ave, SW., Washington DC, 20585 or telephone: (202) 287-1644.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Review and update accomplishments of STEAB's Sub-committee and Task Forces, update Board members on progress made since the live Board meeting on June 7-9, 2011, provide an update to the Board on routine business matters and other topics of interest, and continue planning the upcoming November 2011 Board meeting.

Public Participation: The meeting is open to the public. Written statements may be filed with the Board either before or after the meeting. Members of the public who wish to make oral statements pertaining to agenda items should contact Gil Sperling at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 60 days on the STEAB Web site at: http://www.steab.org.

Issued at Washington, DC, on June 14, 2011.
LaTanya Butler,
Acting Deputy Committee Management Officer.

[FR Doc. 2011-15409 Filed 6-20-11; 8:45 am]

BILLING CODE 6450-01-P